ADMINISTRATIVE CONFERENCE OF THE UNITED STATES

1 CFR Part 301

Organization and Purpose

AGENCY: Administrative Conference of the United States.

ACTION: Final rule.

SUMMARY: The Administrative Conference of the United States (ACUS or the Conference) is repromulgating updated rules identifying its purposes, organization and activities, as required by the Freedom of Information Act.

DATES: Effective Date: November 10, 2010.

FOR FURTHER INFORMATION CONTACT: David Pritzker, Deputy General Counsel, at 202-480-2093.

SUPPLEMENTARY INFORMATION:

Background Information. ACUS was established by the Administrative Conference Act, 5 U.S.C. 591-96. Following the loss of its funding in 1995, ACUS ceased operations. In 1996, its prior regulations (including Part 301) were eliminated. 61 FR 3539 (1996). Congress has now reauthorized and refunded ACUS, which has now reinitiated operations. This regulation describes the agency's purposes, organization and activities in accordance with its current statutory authority and is promulgated pursuant to the requirements of 5 U.S.C. 552(a)(1).

Statutory Reviews

(a) No Notice Required Under 5 U.S.C. 553

5 U.S.C. 553 exempts “rules of agency organization, procedure, or practice” from rulemaking notice requirements.

(b) Paperwork Reduction Act

ACUS has determined that the Paperwork Reduction Act, 44 U.S.C. 3501 et seq., does not apply because these regulations do not contain any information collection requirements.

(c) Regulatory Flexibility Act

The Regulatory Flexibility Act, 5 U.S.C. 601 et seq., requires agencies to perform regulatory flexibility analyses when promulgating rules through notice and comment procedures. Since notice and comment procedures are not required here, the Regulatory Flexibility Act does not apply.

List of Subjects in 1 CFR Part 301

Organization and Functions.

For the reasons set forth in the preamble, under the authority at 5 U.S.C. 552 and 591-96, the Administrative Conference of the United States is establishing 1 CFR Chapter III, consisting of Parts 300 through 399, to read as follows:

CHAPTER III—ADMINISTRATIVE CONFERENCE OF THE UNITED STATES

PART 300—[RESERVED]

PART 301—ORGANIZATION AND PURPOSE

Sec.
301.1 Establishment and location.
301.2 Purposes.
301.3 Organization.
301.4 Activities.
301.5 Office of the Chairman.

Authority: 5 U.S.C. 552, 591-96.

PART 301—ORGANIZATION AND PURPOSE

§ 301.1 Establishment and location.

The Administrative Conference of the United States was established as a permanent independent agency of the Federal Government by the Administrative Conference Act (5 U.S.C. 591-96), as amended. The Conference offices are located at 1120 20th Street, NW., South Lobby, Suite 706, Washington, DC 20036. The offices are open from 8:30 a.m. to 5 p.m., Monday through Friday, excluding legal holidays, unless otherwise stated. General correspondence and filings should be delivered to the foregoing address. Electronic filings should be transmitted as specified by the Conference. The public may obtain information about the Conference either by accessing its Web site at http://www.acus.gov, by calling the Conference offices at (202) 480-2080, or by contacting info@acus.gov. The Conference's recommendations may be obtained by accessing its Web site or by visiting the reading room at its offices.

§ 301.2 Purposes.

The purposes of the Administrative Conference are—

(a) To provide suitable arrangements through which Federal agencies, assisted by outside experts, may cooperatively study mutual problems, exchange information, and develop recommendations for action by proper authorities to the end that private rights may be fully protected and regulatory activities and other Federal responsibilities may be carried out expeditiously in the public interest;

(b) To promote more effective public participation and efficiency in the rulemaking process;

(c) To reduce unnecessary litigation in the regulatory process;

(d) To improve the use of science in the regulatory process; and

(e) To improve the effectiveness of laws applicable to the regulatory process.

§ 301.3 Organization.

(a) The Chairman of the Administrative Conference of the United States is appointed by the President, with the advice and consent of the Senate, for a five-year term.

(b) The Council consists of the Chairman and 10 other members who are appointed by the President for three-year terms, of whom not more than one-half may be employees of Federal regulatory agencies or Executive departments.

(c) The total membership of the Conference may not, by statute, be lower than 75 or higher than 101. It comprises, in addition to the Council, approximately 50 Government members (from Executive departments and agencies designated by the President and independent regulatory boards or commissions) and approximately 40 non-Government or public members appointed by the Chairman with the approval of the Council (lawyers in private practice, scholars in the field of administrative law or government, or others specially informed by knowledge and experience with respect to Federal administrative procedure). Public members are selected so as to provide broad representation of the views of private citizens and utilize diverse experience.

(d) Members of the Conference, except the Chairman, are not entitled to pay for service; although public members are entitled to travel reimbursement.

(e) The membership is divided into six standing committees, each assigned a broad area of interest as follows: Adjudication, Administration, Public Processes, Judicial Review, Regulation, and Rulemaking.

(f) The membership meeting in plenary session is called the Assembly of the Administrative Conference. The Council must call at least one plenary session each year. The Assembly has authority to adopt bylaws for carrying out the functions of the Conference.

§ 301.4 Activities.

(a) The Conference may study the efficiency, adequacy, and fairness of the administrative procedure used by administrative agencies in carrying out administrative programs. Subjects for inquiry by the Conference are developed by the Chairman, the Council, the committees, and the Assembly. The committees, with the assistance of staff and consultants, conduct thorough studies of these subjects and develop proposed recommendations and supporting reports. Reports and recommendations are considered by the Council and distributed to the membership, with the views and recommendations of the Council, to be placed on the agenda of a plenary session. The Assembly has complete authority to approve, amend, remand, or reject recommendations presented by the committees. The deliberations of the Assembly are public. Recommendations may be made to administrative agencies, collectively or individually, and to the President, Congress, or the Judicial Conference of the United States, as the Conference considers appropriate.

(b) The Conference may arrange for interchange among administrative agencies of information potentially useful in improving administrative procedure, collect information and statistics from administrative agencies and publish such reports as it considers useful for evaluating and improving administrative procedure, and enter into arrangements with any administrative agency or major organizational unit within an administrative agency pursuant to which the Conference performs any of the functions described in this section.

(c) The Conference may provide assistance in response to requests relating to the improvement of administrative procedure in foreign countries, subject to the concurrence of the Secretary of State or the Administrator of the Agency for International Development, as appropriate, except that:

(1) Such assistance shall be limited to the analysis of issues relating to administrative procedure, the provision of training of foreign officials in administrative procedure, and the design or improvement of administrative procedure, where the expertise of members of the Conference is indicated; and

(2) Such assistance may only be undertaken on a fully reimbursable basis, including all direct and indirect administrative costs.

(d) For purposes of this section:

(1) “Administrative program” includes a Federal function which involves protection of the public interest and the determination of rights, privileges, and obligations of private persons through rulemaking, adjudication, licensing, or investigation, except that it does not include a military or foreign affairs function of the United States; and

(2) “Administrative procedure” means procedure used in carrying out an administrative program and is to be broadly construed to include any aspect of agency organization, procedure, or management which may affect the equitable consideration of public and private interests, the fairness of agency decisions, the speed of agency action, and the relationship of operating methods to later judicial review, but does not include the scope of agency responsibility as established by law or matters of substantive policy committed by law to agency discretion.

§ 301.5 Office of the Chairman.

The Chairman is the chief executive of the Conference. The Chairman presides at meetings of the Council and at each plenary session of the Conference. Among his powers is the authority to encourage Federal agencies to adopt the recommendations of the Conference. The Chairman is also authorized to make inquiries into matters he considers important for Conference consideration, including matters proposed by individuals inside or outside the Federal Government. The purpose of such inquiries is not to review the results in particular cases, but rather to determine whether the problems should be made the subject of Conference study in the interests of developing fair and effective procedures for such cases. Upon request of the head of an agency, the Chairman is authorized to furnish assistance and advice on matters of administrative procedure. The Chairman may request agency heads to provide information needed by the Conference, which information shall be supplied to the extent permitted by law.

PARTS 302 THROUGH 399—[RESERVED]

Dated: November 3, 2010.
Paul R. Verkuil,
Chairman.

[FR Doc. 2010-28207 Filed 11-9-10; 8:45 am]

BILLING CODE 6110-01-P